DEPARTMENT OF VETERANS AFFAIRS

48 CFR Part 852

Solicitation Provisions and Contract Clauses

CFR Correction

In Title 48 of the Code of Federal Regulations, Chapters 7 to 14, revised as of October 1, 2019, on page 272, remove the second printing of section 852.232-70, and on page 278, remove the second printing of section 852.236-72.

[FR Doc. 2020-21868 Filed 9-30-20; 8:45 am]

BILLING CODE 1301-00-D